DEPARTMENT OF ENERGY

Federal Energy Regulatory Commission

[Docket No. CP22-15-000]

Texas Eastern Transmission, LP; Notice of Availability of the Final Environmental Impact Statement for the Proposed Venice Extension Project

The staff of the Federal Energy Regulatory Commission (FERC or Commission) has prepared a final environmental impact statement (EIS) for the Venice Extension Project, proposed by Texas Eastern Transmission, LP (Texas Eastern) in the above-referenced docket. Texas Eastern requests authorization to provide firm natural gas transportation service for up to 1,260,000 dekatherms per day on its existing Line 40 to an interconnection with a pipeline lateral to be constructed, owned, and operated by Venture Global Gator Express, LLC, with ultimate delivery to Venture Global Plaquemines LNG, LLC Liquified Natural Gas (LNG) Terminal, which is currently under development in Plaquemines Parish, Louisiana.

The final EIS assesses the potential environmental effects of the construction and operation of the Venice Extension Project in accordance with the requirements of the National Environmental Policy Act. With the exception of climate change impacts, FERC staff concludes that approval of the proposed project, with the mitigation measures recommended in the EIS, would not result in significant environmental impacts. Climate change impacts are not characterized in the EIS as significant or less than significant because the Commission is conducting a generic proceeding to determine whether and how the Commission will conduct climate change significance determinations going forward.

The final EIS addresses the potential environmental effects of: the (i) construction and operation of an approximately 3.0-mile-long, 36-inch-diameter pipeline segment on Texas Eastern's Line 40 in Pointe Coupee Parish; (ii) abandonment in place of a 2.2-mile-long, 36-inch-diameter existing pipeline segment on Line 40 in Pointe Coupee Parish; (iii) construction of a new proposed 31,900 horsepower (hp) compressor station (New Roads Compressor Station) and metering and regulating (M&R) facilities in Pointe Coupee Parish; (iv) abandonment in place of an existing, inactive 19,800 hp compressor unit at Texas Eastern's existing White Castle Compressor Station in Iberville Parish, Louisiana, and an existing, inactive 19,800 hp compressor unit at its existing Larose Compressor Station in Lafourche Parish, Louisiana; (v) installation of one new 31,900 hp compressor unit and related appurtenances at both White Castle and Larose Compressor Stations; and (vi) upgrades at its Gator Express M&R facility on an open water platform in Plaquemines Parish.

The Commission mailed a copy of the Notice of Availability of the Final Environmental Impact Statement for the Venice Extension Project to federal, state, and local government representatives and agencies; elected officials; environmental and public interest groups; Native American Tribes; potentially affected landowners and other interested individuals and groups; and newspapers and libraries in the project area. The final EIS is only available in electronic format. It may be viewed and downloaded from the FERC's website (www.ferc.gov), on the natural gas environmental documents page (https://www.ferc.gov/industries-data/natural-gas/environmental-overview/environmental-documents-2022). In addition, the final EIS may be accessed by using the eLibrary link on the FERC's website. Click on the eLibrary link (https://elibrary.ferc.gov/eLibrary/search), select “General Search,” and enter the docket number in the “Docket Number” field (i.e., CP22-15). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://ferconline.ferc.gov/FERCOnline.aspx to register for eSubscription.

Dated: February 17, 2023.
Kimberly D. Bose,
Secretary.

[FR Doc. 2023-03836 Filed 2-23-23; 8:45 am]

BILLING CODE 6717-01-P